DEPARTMENT OF HEALTH AND HUMAN SERVICES

Centers for Disease Control and Prevention

[Program Announcement 02130]

Cooperative Agreement With National Organizations for Promoting Health and Preventing Disease and Disability With Employer-Purchasers of Health Care; Notice of Availability of Funds

A. Purpose

The Centers for Disease Control and Prevention (CDC) announces the availability of fiscal year (FY) 2002 funds for a cooperative agreement program with National Organizations for Promoting Health and Preventing Disease and Disability, and improving healthy behaviors. This program addresses all “Healthy People 2010” focus areas.

The purpose of the program is to support cross-cutting activities with national business organizations and their affiliated employer-purchasers of health care to improve health, prevent disease and disability, and promote healthy behaviors with regard to a variety of disease areas and health conditions. It's purpose is to also promote the objectives outlined in The Guide for Community Preventive Services (http://www.thecommunityguide.org) and other clinical and preventive services guidelines, through the translation and communication of public health principles and prevention practices into readily interpretable and applicable information for employer-purchasers of health care.

Program Emphasis

There are two broad areas of program emphasis:

1. Prevention of chronic disease and integrated chronic disease care, with a special focus on preventing, identifying and managing co-morbidities of chronic illness and the special needs of chronically ill populations.

2. Prevention of acute and chronic health conditions, diseases, concerns and issues that affect women.

In addition, applicants should ensure that their proposals address reducing health status disparities within employed populations. More specifically, address the persistent problem that, even with health insurance, certain racial and ethnic subpopulations bear a significantly greater burden of suffering, particularly from chronic disease.

Measurable outcomes of the program will be in alignment with the following performance goal for the CDC Epidemiology Program Office: Maximize the distribution and use of scientific information and prevention strategies through collaborative efforts with national business organizations and their affiliated members.

B. Authority and Catalog of Federal Domestic Assistance Number

This program is authorized under sections 301 and 317(k)(2) of the Public Health Service Act [42 U.S.C. 241 and 247b(k)(2)], as amended. The Catalog of Federal Domestic Assistance number is 93.283.

C. Eligible Applicants

Applications will be accepted from national, nonprofit organizations that provide documented proof of meeting the following criteria in the “Eligibility” section of the application:

1. Be an established tax-exempt organization (i.e., a non-governmental, tax-exempt corporation or association whose net earnings in no way accrue to the benefit of private shareholders or individuals). Tax-exempt status may be confirmed by providing a copy of the relevant pages from the Internal Revenue Service's (IRS) most recent list of 501(c) (3) or (6) tax exempt organizations or a copy of the current IRS Determination Letter. Proof of tax-exempt status must be provided with the application.

2. Have a membership composed primarily of small, medium, or large, private employers with multi-state and/or national operations.

Note: Title 2 of the United States Code section 1611 states that an organization described in section 501(c)(4) of the Internal Revenue Code of 1986 that engages in lobbying activities is not eligible to receive Federal funds constituting an award, grant or loan.

Recipients may enter into contractual agreements, as necessary, to accomplish the goals and objectives of this program.

D. Availability of Funds

Approximately $400,000 is available in FY 2002 to fund two to three awards. It is expected that the average award will be $165,000, ranging from $130,000 to $200,000. It is expected that awards will begin on or about September 30, 2002, for a 12-month budget period within a project period of up to three years. Funding estimates may change.

Continuation awards within an approved project period will be made on the basis of satisfactory progress as evidenced by required reports and the availability of funds.

Matching funds are not required for this program.

E. Program Requirements

In conducting activities to achieve the purposes of this program, the recipient will be responsible for activities under 1. Recipient Activities, and CDC will be responsible for the activities listed under 2. CDC Activities. The recipient will be required to perform a minimum of four out of the five core activities described under items a, b, c, d and e. Item f (dissemination) is a required core activity and must be addressed in addition to the other four selected core activities. In addition to the core activities, complementary program activities described in items g and h may be supported based on the availability of supplemental funds from participating CDC Programs.

1. Recipient Activities:

Core Activities

a. Develop case examples of employer-purchaser/health plan collaborative initiatives that utilize assessment tools (e.g., avoidable claims analysis) to identify and stratify explicitly preventable health care costs and promote deployment of disease-management or similar strategies to reduce preventable disease burden and the associated health care costs.

b. Convene business forums and round tables with leading employer-purchasers (to include Chief Financial Officers, Senior Benefits staff and Medical Directors) and their corresponding vendors (e.g., health plans, provider networks, third party brokers and consultants) that operate prevention-oriented employee health improvement programs in the areas of chronic disease prevention and care, and/or women's health. The aim of these sessions should be to analyze and document the purchaser decision-making process regarding the allocation of resources for prevention-oriented employee health care services. An additional goal of these sessions should be to encourage participants to utilize current evidence-based strategies in their initiatives to purchase disease management and other preventive health services.

These sessions should also identify a means within the premium negotiation process between employer-purchasers and health plans to address explicitly the allocation of resources necessary to support the information technology system infrastructure of health plans and providers (e.g., disease registries and reminder systems).

c. Identify case examples of employer-purchasers which have adopted value-based purchasing strategies that link accreditation, quality improvement and performance measurement; and assess the impact of this linkage on the receipt of preventive services by insured populations.

d. Identify and evaluate decision-support tools which include Return on Investment (ROI) and Employee Health-Productivity models tailored to assist an employer-purchaser in making decisions about selecting and packaging clinical preventive services for its health benefits coverage. These tools should be applicable for decisions to select disease or condition-specific, stand-alone or carve-out services, as well as a more integrated disease management strategy for the employer. These tools should also have the capacity to support decisions across the spectrum of health plan and provider structures (e.g., health maintenance organizations (HMOs); preferred provider organizations (PPOs); and other managed care organizations) and other vendor product lines.

e. Identify effective health promotion models in the areas of chronic disease management and women's health, and develop publications in collaboration with CDC of best practices targeting business, the national business press, and popular mass media to promote replication.

Required Core Activity

f. Develop and disseminate accurate and timely electronic and print materials that focus on findings of cooperative agreement activities, and are specifically tailored to business. As part of the dissemination of this information, recipients may develop and use diverse channels of communication such as E-mail, websites, executive summaries and other publications targeted for national dissemination, as well as CDC meetings, other meetings and conferences, executive seminars, and symposia.

Complementary Program Activities

g. Develop, implement and evaluate the outcomes of demonstration projects with one to five employers/corporations related to core cooperative agreement activities and goals regarding decision-making tools; disease management and prevention; adoption of preventive health services; and worksite health promotion.

h. Describe and implement activities to bridge corporate purchasers and public health related to planning and reacting to bioterrorism, population health threats, or other emerging health issues.

2. CDC Activities

a. Provide technical assistance and monitor the progress of all aspects of this cooperative agreement.

b. Provide up-to-date scientific information and consultation.

c. Provide opportunities for presentations to CDC staff and management on needs and perspectives of business relative to health. Other activities may include reciprocal site visits between CDC and Business Organizations to collaborate on projects and exchange ideas and strategies.

d. Provide CDC experts for presentations at national business conferences and executive sessions to inform and educate on public health goals and objectives.

e. Collaborate with recipients on cooperative agreement activities, including publications, as appropriate.

F. Content

The program announcement title and number must appear in the application. Use the information in the Program Requirements, Other Requirements, and Evaluation Criteria sections to develop the application content. Your application will be evaluated on the criteria listed, so it is important to follow them in laying out the program plan. The narrative should be no more than 25 double-spaced pages, printed on one side, with one-inch margins and 12-point font.

1. Organizational Profile (maximum 10 pages)

a. Provide a narrative on the applicant organization, including: background information; evidence of relevant experience and past experience working with other organizations, including government agencies; and a clear understanding of this announcement's purpose. Provide evidence of an organizational structure and mission that can meet the requirements of this program.

b. Provide a membership listing and an estimate of members' combined total workforce.

c. Include details of past experiences working with members on health and health-related issues.

d. Profile qualified personnel who are available to work under this agreement. Include a global organizational chart which also demonstrates the geographic location(s) and organizational positions of all anticipated personnel.

2. Program Plan (maximum 18 pages)

a. Provide clear and concise descriptions of proposed recipient activities (four or more from those specified in this announcement), demonstrating your understanding of public health principles, the intent of this announcement, and your members' needs. Include some preliminary ideas on members' needs (in the areas of health promotion, disease and disability prevention, chronic disease management, wellness and health screening programs, health care quality assessment and improvement, health benefits purchasing, and community outreach) and how they relate to this announcement.

b. Include goals and measurable objectives that are specific, time-framed and relevant to the intent of this announcement. Detail the potential benefits of the proposed objectives.

c. Provide an action plan, including a timeline of activities and personnel responsible for implementing each segment of the plan.

d. Include an evaluation plan which encompasses both qualitative and quantitative measures for the achievement of program objectives, as well as a mechanism for mid-course correction when those objectives are not being met.

e. Provide a plan for sharing findings/results indicating when, to whom, and in what format.

f. Provide a plan for obtaining additional resources from non-federal sources to supplement program activities and ensure their continuation after the end of the project period.

3. Budget Information

Provide a detailed budget with justification. The budget proposal should be consistent with the purpose, program requirements, and program plan presented.

G. Submission and Deadline

Submit the original and two copies of PHS-5161-1 (OMB Number 0937-0189). Forms can be obtained at the following internet address: www.cdc.gov/od/pgo/forminfo.htm or by contacting the Grants Management Specialist listed in the “Where to Obtain Additional Information” section of this announcement.

The application must be received by 5 p.m., August 19, 2002. Submit the application to: Technical Information Management—PA02130, Procurement and Grants Office, Centers for Disease Control and Prevention, 2920 Brandywine Rd, Room 3000, Atlanta, GA 30341-4146.

Deadline: Applications shall be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Applicants are required to provide measures of effectiveness that will demonstrate the accomplishment of the various identified objectives of the cooperative agreement. Measures of effectiveness must relate to the performance goal stated in section “A. Purpose” of this announcement. Measures must be objective and quantitative and must measure the intended outcome. These measures of effectiveness shall be submitted with the application and shall be an element of evaluation.

Each application will be evaluated individually by an independent review group appointed by CDC against the following criteria:

1. Program Plan (40 points)

The extent to which the applicant's program plan meets the required activities specified under “Recipient Activities” in this announcement and are measurable, specific, time-framed and realistic.

2. Capability (25 points)

The extent to which the applicant demonstrates the possibility of successfully implementing the proposed activities as measured by relevant past history; a sound management structure and staff qualifications, including the appropriateness of proposed roles, responsibilities and job descriptions; and a description of the applicant's capability to collaborate and partner with other organizations and agencies to disseminate and share results.

3. Evaluation (20 points)

The extent to which the applicant has developed mechanisms for evaluating and reevaluating progress toward stated goals and objectives which include feedback from its membership. The extent to which the applicant builds in the capacity for mid-course correction(s) based on those evaluations.

4. Organizational Profile (15 points)

The extent to which the applicant's existing organizational structure, mission, goals, objectives, activities, functions and membership composition are consistent with the purpose of this program announcement.

5. Budget (Not scored)

The extent to which the budget is reasonable in the amount(s) requested, justified by the application content, and consistent with the intentions of this announcement.

I. Other Requirements

Technical Reporting Requirements

Provide CDC with original plus two copies of:

1. Semiannual progress reports. The progress report will include a data requirement that demonstrates measures of effectiveness.

2. Financial status report, no more than 90 days after the end of the budget period.

3. Final financial status and performance reports, no more than 90 days after the end of the project period.

Send all reports to the Grants Management Specialist identified in the “Where to Obtain Additional Information” section of this announcement.

The following additional requirements are applicable to this program. For a complete description of each, see the program announcement Attachment I as posted on the CDC internet home page.

AR-7 Executive Order 12372 Review

AR-9 Paperwork Reduction Act Requirements

AR-10 Smoke-Free Workplace Requirements

AR-11 Healthy People 2010

AR-12 Lobbying Restrictions

AR-15 Proof of Non-Profit Status

J. Where To Obtain Additional Information

This and other CDC announcements, the necessary applications, and associated forms can be found on the CDC home page Internet address— http://www.cdc.gov Click on “Funding” then “Grants and Cooperative Agreements.”

For business management assistance, contact: Mattie Jackson, Grants Management Specialist—PA02130, Procurement and Grants Office, Centers for Disease Control & Prevention, 2920 Brandywine Road, Room 3000, Mailstop K-75, Atlanta, GA 30341-4146, Voice: (770) 488-2696; Fax: (770) 488-2670/2671, E-mail: mij3@cdc.gov.

For program technical assistance, contact: Paul V. Stange, Office of HealthCare Partnerships, Division of Prevention Research and Analytic Methods, Epidemiology Program Office, Centers for Disease Control and Prevention, 4770 Buford Highway, K-73, Atlanta, GA 30341-3724, Voice: (770) 488-8199; Fax: (770) 488-8461, E-mail: pstange@cdc.gov.

Dated: July 12, 2002.
Sandra R. Manning,
CGFM, Director, Procurement and Grants Office, Centers for Disease Control and Prevention.

[FR Doc. 02-18237 Filed 7-18-02; 8:45 am]

BILLING CODE 4163-18-P